ENVIRONMENTAL PROTECTION AGENCY

[ER-FRL-6664-4]

Environmental Impacts Statements; Notice of Availability

Responsible Agency: Office of Federal Activities, General Information (202) 564-7167 or http://www.epa.gov/compliance/nepa/.

Weekly receipt of Environmental Impact Statements

Filed 06/06/2005 Through 06/10/2005

Pursuant to 40 CFR 1506.9.

EIS No. 20050231, Draft EIS, AFS, MT, Gallatin National Forest, Proposed Travel Management Plan, Implementation, Forest Land and Resource Management, Madison, Gallatin, Park, Meagher, Sweetgrass and Carbon Counties, MT, Comment Period Ends: 08/01/2005, Contact: Steve Christiansen 406-587-6750.

EIS No. 20050232, Final EIS, FHW, OR, Newberg-Dundee Transportation Improvement Project, (TEA 21 Prog. #37), Proposal to Relieve Congestion on OR-9W through the Cities of Newberg and Dundee, Bypass Element Location (Tier 1), Yamhill County, OR, Wait Period Ends: 07/18/2005, Contact: Alan J. Fox 503-986-2681.

EIS No. 20050233, Final EIS, FHW, MI, I-75 from M-102 to M-59 Proposed Widening and Reconstruction, Transportation Improvements, Funding, NPDES Permit and U.S. Army COE Section 404 Permit, Oakland County, MI, Wait Period Ends: 08/05/2005, Contact: Abdelmoez Abdalla 517-702-1820.

EIS No. 20050234, Draft EIS, FHW, LA, Interstate 69, Section of Independent Utility (SIU) 15 Project, Construct between U.S. Highway 171 near the Town of Stonewall in DeSoto Parish, and Interstate Highway 20 (I-20) near the Town of Haughton in Bossier Parish, LA, Comment Period Ends: 08/01/2005, Contact: William C. Farr 225-757-7615.

EIS No. 20050235, Draft EIS, NPS, IN, Lincoln Boyhood National Memorial General Management Plan, Implementation, Lincoln City, Spencer County, IN, Comment Period Ends: 08/16/2005, Contact: Nick Chevance 402-661-1844.

EIS No. 20050236, Draft EIS, AFS, MT, Rocky Mountain Ranger District Travel Management Plan, Proposes to Change the Management of Motorized and Non-Motorized Travel, Lewis and Clark National Forest, Glacier, Pondera, Teton and Lewis and Clark Counties, MT, Comment Period Ends: 08/16/2005, Contact: Dick Schwecke 406-791-7700.

EIS No. 20050237, Final EIS, NOA, 00, Bottomfish and Seamount Groundfish Fisheries Conservation and Management Plan, Implementation, U.S. Economic Zone (EEZ) around the State of Hawaii, Territories of Samoa and Guam, Commonwealth of the Northern Mariana and various Islands and Atolls known as the U.S. Pacific remove Island areas, HI, GU and AS, Wait Period Ends: 07/18/2005, Contact: William Robinson 808-973-2937.

EIS No. 20050238, Final EIS, AFS, UT, Monticello and Blanding Municipal Watershed Improvement Projects, Implementation, Manti-La Sal National Forest, Monticello Ranger District, San Juan County, UT, Wait Period Ends: 07/18/2005, Contact: Greg Montgomery 435-636-3348.

EIS No. 20050239, Draft EIS, CGD, 00, Main Pass Energy HUB Deepwater Port License Application, Proposes to Construct a Deepwater Port and Associated Anchorages, U.S. Army COE Section 10 and 404 Permit, Gulf of Mexico (GOM), southeast of the coast of Louisiana in Main Pass Lease Block (MP) 299 and from the Mississippi coast in MP 164, Comment Period Ends: 08/01/2005, Contact: Mark Prescott 202-267-0225.

EIS No. 20050240, Draft Supplement, FTA, MA, Silver Line Phase III (previously known as South Boston Pier) Project, Updated Information to Physically Integrate Silver Line Phase I and II, Massachusetts Bay Transportation Authority's, Funding, MA, Comment Period Ends: 08/08/2005, Contact: Andrew Brennan 617-222-3126.

EIS No. 20050241, Final EIS, BLM, 00, Programmatic EIS—Proposed Revision to Grazing Regulations for the Public Lands, 42 CFR Part 4100, in the Western Portion of the United States, Wait Period Ends: 07/18/2005, Contact: Bud Cribley 202-785-6569.

EIS No. 20050242, Final EIS, FRC, TX, Ingleside Energy Center Liquefied Natural Gas (LNG) Import Terminal and San Patricio Pipeline Natural Gas Pipeline, Authorization to Construct, Install and Operate, San Patricio and Nueces Counties, TX, Wait Period Ends: 07/18/2005, Contact: Thomas Russo 1-866-208-3372.

EIS No. 20050243, Final EIS, AFS, OR, West Maurys Fuels and Vegetation Management Project, Prescribed Fire, Commercial and Noncommercial Thinning, Grapple Piling and Hand Piling, Implementation, Lookout Mountain Range District, Ochoco National Forest, Crook County, OR, Wait Period Ends: 07/18/2005, Contact: Larry Timchak 541-416-6500.

Dated: June 14, 2005.
Robert W. Hargrove,
Director, NEPA Compliance Division, Office of Federal Activities.

[FR Doc. 05-12014 Filed 6-16-05; 8:45 am]

BILLING CODE 6560-50-P